DEPARTMENT OF ENERGY

Federal Energy Regulatory Commission

[Project No. 2661-012]

Pacific Gas and Electric Company; Notice of Availability of Draft Environmental Assessment

August 29, 2000.

In accordance with the National Environmental Policy Act of 1969 and the Federal Energy Regulatory Commission's (Commission) regulations, 18 CFR part 380 (Order No. 486, 52 FR 47897), the Office of Energy Projects staff has reviewed the application for new license for the Hat Creek Hydroelectric Project located on Hat Creek, near the town of Cassel, in Shasta County, California, and has prepared a draft Environmental Assessment (DEA) for the project. In the DEA, the Commission's staff has analyzed the potential environmental impacts of the existing project and has concluded that approval of the project, with appropriate environmental protection measures, would not constitute a major federal action significantly affecting the quality of the human environment.

Copies of the DEA are available for review in the Public Reference Branch, Room 2-A, of the Commission's offices at 888 First Street, NE., Washington, DC 20426. The DEA may also be viewed on the web at http://www.ferc.fed.us/online/rims.htm (please call (202) 208-2222 for assistance).

Any comments should be filed within 45 days from the date of this notice and should be addressed to David P. Boergers, Secretary, Federal Energy Regulatory Commission, 888 First Street, NE., Washington, DC 20426. Please affix “Hat Creek Hydroelectric Project No. 2661-012,” to all comments. For further information, please contact David Turner at (202) 219-2844.

Linwood A. Watson, Jr.,
Acting Secretary.

[FR Doc. 00-22590 Filed 9-1-00; 8:45 am]

BILLING CODE 6717-01-M